DEPARTMENT OF HEALTH AND HUMAN SERVICES

Health Resources and Services Administration

Emergency Medical Services for Children Innovation and Improvement Center

AGENCY: Health Resources and Services Administration (HRSA), Department of Health and Human Services (HHS).

ACTION: Announcing period of performance extension with funding for Emergency Medical Services for Children Innovation and Improvement Center (EIIC) Award recipient.

SUMMARY: HRSA plans to provide additional funds to the University of Texas at Austin, Texas, the current EIIC Program recipient, to extend the recipient's current period of performance by 12 months. This extension is necessary to support continuity of operations that facilitate pediatric readiness activities in hospital emergency departments (ED) and prehospital emergency medical services (EMS) agencies throughout the country. The current performance period ends June 30, 2025.

FOR FURTHER INFORMATION CONTACT: Sara B Kinsman, M.D., Ph. D., Director, Division of Child, Adolescence, and Family Health, at SKinsman@hrsa.gov and 240-475-3712.

SUPPLEMENTARY INFORMATION:

Intended Recipient(s) of the Award: University of Texas at Austin, Texas.

Amount of Competitive Award(s): One award for $2,500,000.

Project Period: July 1, 2025-June 30, 2026.

Assistance Listing (Catalog of Federal Domestic Assistance) Number: 93.127.

Award Instrument: Cooperative Agreement.

Authority: 42 U.S.C. 300w-9 (Public Health Service Act, title XIX, sec. 1910).

Purpose/Justification: The Emergency Medical Services for Children (EMSC) program funds demonstration projects to expand and improve emergency medical services for children who need treatment for trauma or critical care. EIIC provides technical support to states and jurisdictions to achieve the EMSC program's mandate by increasing pediatric readiness in hospital EDs and prehospital EMS agencies to improve outcomes for children. EIIC supports demonstration projects to implement evidence-based clinical guidelines and establish evidence-based training for emergency care practitioners in hospital EDs and prehospital EMS agencies in underserved communities. EIIC was established in 2016 through a 4-year cooperative agreement. HRSA's Maternal and Child Health Bureau re-competed the program in 2020 for another 4 years and extended the program for an additional year in fiscal year 2024 to support the first comprehensive national assessment of prehospital agencies and continue quality improvement activities to increase pediatric readiness. The current budget period ends on June 30, 2025. Renewal of this grant will allow EIIC to continue to advance pediatric readiness nationally during this upcoming extension period in both prehospital EMS and hospital emergency departments through the dissemination of data. HRSA intends to recompete this program prior to the end of the 12-month extension period. HRSA will award $2,500,000 to the existing EIIC Program award recipient to continue operations as outlined in HRSA-20-037 Notice of Funding Opportunity.

Thomas J. Engels,
Administrator.

[FR Doc. 2025-09294 Filed 5-22-25; 8:45 am]

BILLING CODE 4165-15-P